DEPARTMENT OF THE TREASURY

Office of Foreign Assets Control

31 CFR Parts 510, 525, 526, 536, 542, 544, 546, 547, 548, 549, 550, 551, 552, 553, 555, 558, 560, 562, 569, 570, 576, 578, 579, 582, 583, 584, 585, 587, 588, 589, 590, 591, 594, 598, and 599

Updating Provisions Related to Blocking and Other Actions Related to Specific Property or Interests in Property

AGENCY: Office of Foreign Assets Control, Treasury.

ACTION: Final rule.

SUMMARY: The Department of the Treasury's Office of Foreign Assets Control (OFAC) is adopting a final rule to clarify OFAC's process for issuing certain orders that block or identify as blocked specific property or interests in property, or that impose other prohibitions less than full blocking with respect to specific property or interests in property. OFAC is adding information about these orders in regulatory notes in 35 of OFAC's sanctions regulations.

DATES: This rule is effective September 17, 2024.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov.

Background

In this rule, OFAC is updating 35 parts of 31 CFR chapter V to clarify OFAC's processes when it issues certain orders that block or identify as blocked specific property or interests in property, or that impose other non-blocking prohibitions with respect to specific property or interests in property.

International Emergency Economic Powers Act

The 35 parts of 31 CFR chapter V that are the subject of this rule implement OFAC's authority to block the property and interests in property of persons pursuant to, among other authorities, the International Emergency Economic Powers Act, 50 U.S.C. 1701 et seq. (IEEPA).

IEEPA includes authority to investigate, block during the pendency of an investigation, regulate, direct and compel, nullify, void, prevent or prohibit, any acquisition, holding, withholding, use, transfer, withdrawal, transportation, importation or exportation of, or dealing in, or exercising any right, power, or privilege with respect to, or transaction involving, any property in which any foreign country or a national thereof has any interest by any person, or with respect to any property, subject to the jurisdiction of the United States. 50 U.S.C. 1702(a)(1)(B). Other statutes provide similar authority.

OFAC's actions rely on the President's delegation of those authorities under one or more Executive orders. Such orders typically authorize the Secretary of the Treasury to designate persons who meet specified criteria, and they provide that all property and interests in property within U.S. jurisdiction of such persons is blocked. These orders also authorize the Secretary of the Treasury, in consultation with the Secretary of State, to take such actions and to employ all powers granted to the President under IEEPA or other applicable statutory authorities as may be necessary to carry out their purpose, and they provide that blocking prohibitions apply except to the extent provided in regulations, orders, directives, or licenses OFAC may issue. See, e.g., section 1(d) of Executive Order (E.O.) 14024.

Actions With Respect to Specific Property or Interests in Property

The most common way OFAC exercises its authority is by designating a person and placing that person on OFAC's Specially Designated Nationals and Blocked Persons List (SDN List). Once designated, all property and interests in property subject to U.S. jurisdiction of the designated person are blocked, and U.S. persons are generally prohibited from engaging in transactions involving any property or interest in property of the designated person. However, in certain cases, OFAC may exercise its authority in narrower ways. These actions include issuing orders or directives that impose prohibitions less than fully blocking the entirety of a person's property and interests in property as circumstances require. Such tailored actions are based on a combination of OFAC's authority to block all property of a designated person and its authority to narrow the scope of such broad prohibitions through orders, directives, or licenses.

This rule identifies three forms that such actions by OFAC may take: (1) identifying property or interests in property as blocked pursuant to OFAC's authority due to an interest of an already blocked person, including where such interest may not be apparent to the public; (2) blocking specific property or interests in property of a person who is not already blocked but whom OFAC is investigating for potential designation; and (3) blocking or imposing other prohibitions with respect to a person's specific property or interests in property less than full blocking sanctions.

First, OFAC may act to aid relevant parties by identifying the property or interests in property of already blocked persons, particularly in cases in which OFAC has access to information supporting its determination that a blocked person has an interest in specific property. In such cases, OFAC may identify specific property in which OFAC determines a blocked person has an interest and issue an order to financial institutions or other persons in possession or control of such property to block such property. OFAC may also exercise its blocking authorities in this manner upon review of financial transaction information received from U.S. financial institutions following OFAC's requirements that such financial institutions provide reports about accounts or transactions that meet specified criteria. See note 1 to 31 CFR 501.602.

Second, OFAC may identify property or interests in property of a person who is not blocked, but whom OFAC is investigating for potential designation. To ensure that this property or interest in property is not transferred before OFAC designates the person, OFAC may issue an order to financial institutions or other persons in possession or control of such property or interest in property to block it pending investigation.

Third, in certain other cases, OFAC may block or impose other prohibitions with respect to specific property or interests in property less than full blocking sanctions. For example, OFAC may consider designating a person but determine U.S. national security or foreign policy interests are better served by prohibitions that may be narrower than blocking the entirety of the person's property and interests in property. In such cases, OFAC would determine that a person meets the criteria for designation but would take action less than blocking the entirety of a person's property and interests in property. This action may take various forms, including an order to the financial institutions or other persons in possession or control of the specific property or interests in property or a directive imposing non-blocking restrictions. For example, in 2014 OFAC issued directives pursuant to sec. 1(b) of Executive Order 13662 that prohibited certain dealings in debt and equity of persons operating in those sectors of the Russian Federation economy identified by the Secretary of the Treasury pursuant to sec. 1(a)(i) of Executive Order 13662.

Provision of Notice

Persons affected by any type of OFAC prohibition should have an opportunity to understand the nature of OFAC's action and its impact on their property or interests in property. The form of notice may differ depending on the type of action OFAC takes or order it issues and the specific facts of an action.

OFAC may publish notice of its action in the Federal Register, which provides the public with constructive notice of the action. This is the form of notice OFAC uses for designation actions because it ensures that anyone who may come into contact with a designated person or their property or interests in property is aware of the designation.

When OFAC takes more tailored action with respect to specific property or interests in property, the public may not always require notice of the action through publication in the Federal Register, and it may be more appropriate to provide actual notice specifically to a person affected by the prohibition. OFAC may do so by providing written notice of OFAC's order to one or more persons OFAC assesses to have an interest in the property based on available information. OFAC may provide such notice directly to such affected persons or indirectly through financial institutions or other transaction intermediaries, who would be required to notify the affected persons with whom the recipient maintains direct commercial relationships. In many cases, requiring a transaction intermediary to disclose a blocking order may be the most efficient and effective means of providing notice because a transaction intermediary maintains direct commercial relationships through which affected persons may inquire about the status of their funds.¹

¹ OFAC's authority to “regulate” transactions includes the authority to require a participant in a transaction who is subject to U.S. jurisdiction to provide notice to its direct commercial counterparts when the transaction is blocked. 50 U.S.C. 1702(a)(1)(B).

Current Regulatory Action

This rule amends notes to the blocking provisions in subpart B of OFAC's regulations in 35 parts of 31 CFR chapter V (the “subject parts”). The blocking provisions are in § ___.201 in the following parts of 31 CFR: 510, 525, 526, 536, 542, 544, 546, 547, 548, 549, 550, 551, 552, 553, 555, 558, 562, 569, 570, 576, 578, 579, 582, 583, 584, 585, 587, 588, 589, 590, 591, 594, and 599. In part 536, in addition to amending § 536.201, OFAC is amending notes to § 536.312, the definition of specially designated narcotics trafficker, because that definition discusses blocked property and blocking orders. In part 560, the blocking provisions are in § 560.211. In part 598, the blocking provisions are in § 598.202, and in addition to amending that section, OFAC is amending § 598.314, the definition of specially designated narcotics trafficker, because that definition discusses blocked property and blocking orders.

Specifically, this rule adds a note to the subject parts describing the three types of actions OFAC may take with respect to specific property or interests in property, the forms of notice that OFAC may use, and how affected persons can contact OFAC with inquiries about these actions.

Additionally, this rule amends an existing note to the subject parts regarding OFAC's blocking of property and interests in property pending investigation. OFAC is amending the note to make clear that the procedure of publishing the names of persons blocked during the pendency of an investigation in the Federal Register will not necessarily apply when OFAC takes an action to block specific property or interests in property pending investigation.

Finally, OFAC is updating the note in the subject parts that explains the procedures for seeking release of blocked property or administrative reconsideration of OFAC actions to add information about additional unblocking procedures available to blocked or otherwise affected persons. In certain parts, OFAC is making other technical or other conforming updates to the notes.

Public Participation

Because the Regulations involve a foreign affairs function, the provisions of E.O. 12866 of September 30, 1993, “Regulatory Planning and Review” (58 FR 51735, October 4, 1993), as amended, and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Parts 510, 525, 526, 536, 542, 544, 546, 547, 548, 549, 550, 551, 552, 553, 555, 558, 560, 562, 569, 570, 576, 578, 579, 582, 583, 584, 585, 587, 588, 589, 590, 591, 594, 598, and 599

Administrative practice and procedure, Banks, Banking, Blocking of assets, Credit, Foreign trade, Penalties, Reporting and recordkeeping requirements, Sanctions, Securities, Services.

For the reasons set forth in the preamble, OFAC amends 31 CFR chapter V as follows:

PART 510—NORTH KOREA SANCTIONS REGULATIONS

1. The authority citation for part 510 continues to read as follows:

Authority: 3 U.S.C. 301; 31 U.S.C. 321(b); 50 U.S.C. 1601-1651, 1701-1706; 22 U.S.C. 287c, 9201-9255; Pub. L. 101-410, 104 Stat. 890, as amended (28 U.S.C. 2461 note); Pub. L. 115-44, 131 Stat. 886 (codified in scattered sections of 22 U.S.C.); E.O. 13466, 73 FR 36787, 3 CFR, 2008 Comp., p. 195; E.O. 13551, 75 FR 53837, 3 CFR, 2010 Comp., p. 242; E.O. 13570, 76 FR 22291, 3 CFR, 2011 Comp., p. 233; E.O. 13687, 80 FR 819, 3 CFR, 2015 Comp., p. 259; E.O. 13722, 81 FR 14943, 3 CFR, 2016 Comp., p. 446; E.O. 13810, 82 FR 44705, 3 CFR, 2017 Comp., p. 379.

Subpart B—Prohibitions

2. Amend § 510.201 as follows:

a. In note 5 to paragraph (a), in the second sentence:

i. Remove “The names” and add in its place “Except as described in note 6 to this paragraph (a), the names”; and

ii. Remove the word “also.”

b. Redesignate note 6 to paragraph (a) as note 7 to paragraph (a).

c. Add new note 6 to paragraph (a).

d. Revise newly designated note 7 to paragraph (a).

The addition and revision read as follows:

§ 510.201 Prohibited transactions involving blocked property.

(a) * * *

Note 6 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 7 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 525—BURMA SANCTIONS REGULATIONS

3. The authority citation for part 525 is revised to read as follows:

Authority: 3 U.S.C. 301; 31 U.S.C. 321(b); 50 U.S.C. 1601-1651, 1701-1706; Pub. L. 101-410, 104 Stat. 890, as amended (28 U.S.C. 2461 note); E.O. 14014, 86 FR 9429, 3 CFR, 2021 Comp., p. 514.

Subpart B—Prohibitions

4. Amend § 525.201 as follows:

a. In note 2 to § 525.201, in the second sentence:

i. Remove “The names” and add in its place “Except as described in note 3 to this section, the names”; and

ii. Remove the word “also.”

b. Redesignate note 3 to § 525.201 as note 4 to § 525.201.

c. Add new note 3 to § 525.201.

d. Revise newly designated note 4 to § 525.201.

The addition and revision read as follows:

§ 525.201 Prohibited transactions.

* * * * *

Note 3 to § 525.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 525.201. Subpart E of part 501 of this chapter describes the procedures to be followed for the release of property and interests in property blocked pursuant to this section, including funds blocked due to mistaken identity or typographical or similar errors, and for administrative reconsideration of one's status as a person whose property and interests in property are blocked pursuant to this section.

PART 526—HOSTAGES AND WRONGFUL DETENTION SANCTIONS REGULATIONS

5. The authority citation for part 526 is revised to read as follows:

Authority: 3 U.S.C. 301; 22 U.S.C. 1741 et seq.; 31 U.S.C. 321(b); 50 U.S.C. 1601-1651, 1701-1706; Pub. L. 101-410, 104 Stat. 890, as amended (28 U.S.C. 2461 note); E.O. 14078, 87 FR 43389, 3 CFR, 2022 Comp., p. 407.

Subpart B—Prohibitions

6. Amend § 526.201 as follows:

a. In note 2 to § 526.201, in the second sentence:

i. Remove “The names” and add in its place “Except as described in note 3 to this section, the names”; and

ii. Remove the word “also.”

b. Redesignate note 3 to § 526.201 as note 4 to § 526.201.

c. Add new note 3 to § 526.201.

d. Revise newly designated note 4 to § 526.201.

The additions and revision read as follows:

§ 526.201 Prohibited transactions.

* * * * *

Note 3 to § 526.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 526.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 536—NARCOTICS TRAFFICKING SANCTIONS REGULATIONS

7. The authority citation for part 536 continues to read as follows:

Authority: 3 U.S.C. 301; 31 U.S.C. 321(b); 50 U.S.C. 1601-1651, 1701-1706; Pub. L. 101-410, 104 Stat. 890, as amended (28 U.S.C. 2461 note); E.O. 12978, 60 FR 54579, 3 CFR, 1995 Comp., p. 415; E.O. 13286, 68 FR 10619, 3 CFR, 2003 Comp., p. 166.

Subpart B—Prohibitions

8. Amend § 536.201 by revising note 2 to the section to read as follows:

§ 536.201 Prohibited transactions.

* * * * *

Note 2 to § 536.201. Subpart E of part 501 of this chapter describes the procedures to be followed for the release of property and interests in property blocked pursuant to this section, including funds blocked due to mistaken identity or typographical or similar errors, and for administrative reconsideration of one's status as a person whose property and interests in property are blocked pursuant to paragraph (a) of this section.

Subpart C—Definitions

9. Amend § 536.312 as follows:

a. In note 2 to § 536.312, in the second sentence:

i. Remove “The names” and add in its place “Except as described in note 3 to this section, the names”; and

ii. Remove the word “also.”

b. Redesignate note 3 to § 536.312 as note 4 to § 536.312.

c. Add new note 3 to § 536.312.

d. Revise newly designated note 4 to § 536.312.

The addition and revision read as follows:

§ 536.312 Specially designated narcotics trafficker.

* * * * *

Note 3 to § 536.312. In certain cases, OFAC may issue an order to: identify as blocked specific property or interests in property of a specially designated narcotics trafficker; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 536.312. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 542—SYRIAN SANCTIONS REGULATIONS

10. The authority citation for part 542 continues to read as follows:

Authority: 3 U.S.C. 301; 31 U.S.C. 321(b); 18 U.S.C. 2332d; 22 U.S.C. 287c; 22 U.S.C. 8791-8793; 22 U.S.C. 9528; 50 U.S.C. 1601-1651, 1701-1706; Pub. L. 108-175 (22 U.S.C. 2151 note); Pub. L. 116-92, Div. F, Title LXXIV, 133 Stat. 2291 (22 U.S.C. 8791 note); Pub. L. 101-410, 104 Stat. 890, as amended (28 U.S.C. 2461 note); E.O. 13338, 69 FR 26751, 3 CFR, 2004 Comp., p. 168; E.O. 13399, 71 FR 25059, 3 CFR, 2006 Comp., p. 218; E.O. 13460, 73 FR 8991, 3 CFR 2008 Comp., p. 181; E.O. 13572, 76 FR 24787, 3 CFR 2011 Comp., p. 236; E.O. 13573, 76 FR 29143, 3 CFR 2011 Comp., p. 241; E.O. 13582, 76 FR 52209, 3 CFR 2011 Comp., p. 264; E.O. 13606, 77 FR 24571, 3 CFR 2012 Comp., p. 243; E.O.13608, 77 FR 26409, 3 CFR, 2012 Comp., p. 252.

Subpart B—Prohibitions

11. Amend § 542.201 as follows:

a. Redesignate note 3 to § 542.201 as note 4 to § 542.201.

b. Add new note 3 to § 542.201.

c. Revise newly designated note 4 to § 542.201.

The addition and revision read as follows:

§ 542.201 Prohibited transactions involving blocked property.

* * * * *

Note 3 to § 542.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 542.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 544—WEAPONS OF MASS DESTRUCTION PROLIFERATORS SANCTIONS REGULATIONS

12. The authority citation for part 544 continues to read as follows:

Authority: 3 U.S.C. 301; 31 U.S.C. 321(b); 50 U.S.C. 1601-1651, 1701-1706; Pub. L. 101-410, 104 Stat. 890, as amended (28 U.S.C. 2461 note); E.O. 12938, 59 FR 59099, 3 CFR, 1994 Comp., p. 950; E.O. 13094, 63 FR 40803, 3 CFR, 1998 Comp., p. 200; E.O. 13382, 70 FR 38567, 3 CFR, 2005 Comp., p. 170.

Subpart B—Prohibitions

13. Amend § 544.201 as follows:

a. In note 2 to paragraph (a) of § 544.201, in the second sentence:

i. Remove “The names” and add in its place “Except as described in note 3 to this paragraph (a), the names”; and

ii. Remove the word “also.”

b. Redesignate note 3 to paragraph (a) of § 544.201 as note 4 to paragraph (a).

c. Add new note 3 to paragraph (a).

d. Revise newly designated note 4 to paragraph (a).

The addition and revision read as follows:

§ 544.201 Prohibited transactions involving blocked property.

(a) * * *

Note 3 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 546—SUDAN STABILIZATION SANCTIONS REGULATIONS

14. The authority citation for part 546 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13067, 62 FR 59989, 3 CFR, 1997 Comp., p. 230; E.O. 13400, 71 FR 25483, 3 CFR, 2006 Comp., p. 220; E.O. 14098, 88 FR 29529.

15. Amend § 546.201 as follows:

a. In note 2 to § 546.201, in the second sentence:

i. Remove “The names” and add in its place “Except as described in note 3 to this section, the names”; and

ii. Remove the word “also.”

b. Redesignate note 3 to § 546.201 as note 4 to § 546.201.

c. Add new note 3 to § 546.201.

d. Revise newly designated note 4 to § 546.201.

The addition and revision read as follows:

§ 546.201 Prohibited transactions involving blocked property.

* * * * *

Note 3 to § 546.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 546.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 547—DEMOCRATIC REPUBLIC OF THE CONGO SANCTIONS REGULATIONS

16. The authority citation for part 547 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13413, 71 FR 64105, 3 CFR, 2006 Comp., p. 247; E.O. 13671, 79 FR 39949, 3 CFR, 2015 Comp., p. 280.

Subpart B—Prohibitions

17. Amend § 547.201 as follows:

a. In note 2 to paragraph (a), in the second sentence:

i. Remove “The names” and add in its place “Except as described in note 3 to this paragraph (a), the names”; and

ii. Remove the word “also.”

b. Redesignate note 3 to paragraph (a) as note 4 to paragraph (a).

c. Add new note 3 to paragraph (a).

d. Revise newly designated note 4 to paragraph (a).

The addition and revision read as follows:

§ 547.201 Prohibited transactions involving blocked property.

(a) * * *

Note 3 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 548—BELARUS SANCTIONS REGULATIONS

18. The authority citation for part 548 continues to read as follows:

Authority: 3 U.S.C. 301; 31 U.S.C. 321(b); 50 U.S.C. 1601-1651, 1701-1706; Pub. L. 101-410, 104 Stat. 890, as amended (28 U.S.C. 2461 note); E.O. 13405, 71 FR 35485, 3 CFR, 2006 Comp., p. 231; E.O. 14038, 86 FR 43905, 3 CFR, 2021 Comp., p. 626.

Subpart B—Prohibitions

19. Amend § 548.201 as follows:

a. In note 2 to § 548.201, in the second sentence:

i. Remove “The names” and add in its place “Except as described in note 3 to this section, the names”; and

ii. Remove the word “also.”

b. Redesignate note 3 to § 548.201 as note 4 to § 548.201.

c. Add new note 3 to § 548.201.

d. Revise newly designated note 4 to § 548.201.

The addition and revision read as follows:

§ 548.201 Prohibited transactions involving blocked property.

* * * * *

Note 3 to § 548.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 548.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 549—LEBANON SANCTIONS REGULATIONS

20. The authority citation for part 549 continues to read as follows:

Authority: 3 U.S.C. 301; 31 U.S.C. 321(b); 50 U.S.C. 1601-1651, 1701-1706; Pub. L. 101-410, 104 Stat. 890, as amended (28 U.S.C. 2461 note); E.O. 13441, 72 FR 43499, 3 CFR, 2008 Comp., p. 232.

Subpart B—Prohibitions

21. Amend § 549.201 as follows:

a. In note 2 to paragraph (a) of § 549.201, in the second sentence:

i. Remove “The names” and add in its place “Except as described in note 3 to this paragraph (a), the names”; and

ii. Remove “also”.

b. Redesignate note 3 to paragraph (a) of § 549.201 as note 4 to paragraph (a).

c. Add new note 3 to paragraph (a).

d. Revise newly redesignated note 4 to paragraph (a).

The addition and revision read as follows:

§ 549.201 Prohibited transactions involving blocked property.

(a) * * *

Note 3 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 550—ETHIOPIA SANCTIONS REGULATIONS

22. The authority citation for part 550 is revised to read as follows:

Authority: 3 U.S.C. 301; 31 U.S.C. 321(b); 50 U.S.C. 1601-1651, 1701-1706; Pub. L. 101-410, 104 Stat. 890, as amended (28 U.S.C. 2461 note); E.O. 14046, 86 FR 52389, 3 CFR, 2022 Comp., p. 549.

Subpart B—Prohibitions

23. Amend § 550.201 as follows:

a. In note 2 to § 550.201, in the second sentence:

i. Remove “The names” and add in its place “Except as described in note 3 to this section, the names”; and

ii. Remove “also”.

b. Revise notes 3 and 5 to § 550.201.

The addition and revision read as follows:

§ 550.201 Prohibited transactions.

* * * * *

Note 3 to § 550.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

* * * * *

Note 5 to § 550.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 551—SOMALIA SANCTIONS REGULATIONS

24. The authority citation for part 551 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13536, 75 FR 19869, 3 CFR, 2010 Comp., p. 203; E.O. 13620, 77 FR 43483, 3 CFR, 2012 Comp., p. 281.

Subpart B—Prohibitions

25. Amend § 551.201 as follows:

a. In note 2 to § 551.201, in the second sentence:

i. Remove “The names” and add in its place “Except as described in note 3 to this section, the names”; and

ii. Remove “also”.

b. Redesignate note 3 to § 551.201 as note 4 to § 551.201.

c. Add new note 3 to § 551.201.

d. Revise newly redesignated note 4 to § 551.201.

The addition and revision read as follows:

§ 551.201 Prohibited transactions.

* * * * *

Note 3 to § 551.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 551.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 552—YEMEN SANCTIONS REGULATIONS

26. The authority citation for part 552 continues to read as follows:

Authority: 3 U.S.C. 301; 31 U.S.C. 321(b); 50 U.S.C. 1601-1651, 1701-1706; Pub. L. 101-410, 104 Stat. 890, as amended (28 U.S.C. 2461 note); E.O. 13611, 77 FR 29533, 3 CFR, 2012 Comp., p. 260.

Subpart B—Prohibitions

27. Amend § 552.201 as follows:

a. In note 2 to § 552.201, in the second sentence:

i. Remove “The names” and add in its place “Except as described in note 3 to this section, the names”; and

ii. Remove “also”.

b. Redesignate note 3 to § 552.201 as note 4 to § 552.201.

c. Add new note 3 to § 552.201.

d. Revise newly redesignated note 4 to § 552.201.

The addition and revision read as follows:

§ 552.201 Prohibited transactions.

* * * * *

Note 3 to § 552.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 552.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 553—CENTRAL AFRICAN REPUBLIC SANCTIONS REGULATIONS

28. The authority citation for part 553 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13667, 79 FR 28387, 3 CFR, 2014 Comp., p. 243.

Subpart B—Prohibitions

29. Amend § 553.201 as follows:

a. In note 2 to § 553.201, in the second sentence:

i. Remove “The names” and add in its place “Except as described in note 3 to this section, the names”; and

ii. Remove “also”.

b. Redesignate note 3 to § 553.201 as note 4 to § 553.201.

c. Add new note 3 to § 553.201.

d. Revise newly redesignated note 4 to § 553.201.

The addition and revision read as follows:

§ 553.201 Prohibited transactions.

* * * * *

Note 3 to § 553.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 553.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 555—MALI SANCTIONS REGULATIONS

30. The authority citation for part 555 continues to read as follows:

Authority: 3 U.S.C. 301; 22 U.S.C. 287c; 31 U.S.C. 321(b); 50 U.S.C. 1601-1651, 1701- 1706; Pub. L. 101-410, 104 Stat. 890, as amended (28 U.S.C. 2461 note); E.O. 13882, 84 FR 37055, 3 CFR, 2019 Comp., p. 346.

Subpart B—Prohibitions

31. Amend § 555.201 as follows: an

a. In note 2 to § 555.201, in the second sentence:

i. Remove “The names” and add in its place “Except as described in note 3 to this section, the names”; and

ii. Remove the word “also.”

b. Redesignate note 3 to § 555.201 as note 4 to § 555.201.

c. Add new note 3 § 555.201.

d. Revise newly designated note 4 to § 555.201.

The addition and revision read as follows:

§ 555.201 Prohibited transactions.

* * * * *

Note 3 to § 555.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 555.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 558—SOUTH SUDAN SANCTIONS REGULATIONS

32. The authority citation for part 558 continues to read as follows:

Authority: 3 U.S.C. 301; 31 U.S.C. 321(b); 50 U.S.C. 1601-1651, 1701-1706; Pub. L. 101-410, 104 Stat. 890, as amended (28 U.S.C. 2461 note); E.O. 13664, 79 FR 19283, 3 CFR, 2014 Comp., p. 238.

Subpart B—Prohibitions

33. Amend § 558.201 as follows:

a. In note 2 to § 558.201, in the second sentence:

i. Remove “The names” and add in its place “Except as described in note 3 to this section, the names”; and

ii. Remove the word “also.”

b. Redesignate note 3 to § 558.201 as note 4 to § 558.201.

c. Add new note 3 to § 558.201.

d. Revise newly designated note 4 to § 558.201.

The addition and revision read as follows:

§ 558.201 Prohibited transactions.

* * * * *

Note 3 to § 558.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 558.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 560—IRANIAN TRANSACTIONS AND SANCTIONS REGULATIONS

34. The authority citation for part 560 continues to read as follows:

Authority: 3 U.S.C. 301; 18 U.S.C. 2339B, 2332d; 22 U.S.C. 2349aa-9, 7201-7211, 8501-8551, 8701-8795; 31 U.S.C. 321(b); 50 U.S.C. 1601-1651, 1701-1706; Pub. L. 101-410, 104 Stat. 890, as amended (28 U.S.C. 2461 note); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217; E.O. 13599, 77 FR 6659, 3 CFR, 2012 Comp., p. 215; E.O. 13846, 83 FR 38939, 3 CFR, 2018 Comp., p. 854.

Subpart B—Prohibitions

35. Amend § 560.211 as follows:

a. In note 2 to paragraphs (a) through (c) of § 560.211, in the second sentence:

i. Remove “The names” and add in its place “Except as described in note 3 to paragraphs (a) through (c) of this section, the names”; and

ii. Remove the word “also.”

b. Add notes 3 and 4 to paragraphs (a) through (c).

The additions read as follows:

§ 560.211 Prohibited transactions involving blocked property.

* * * * *

(c) * * *

Note 3 to paragraphs (a) through (c). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraphs (a) through (c). Subpart E of part 501 of this chapter describes the procedures to be followed for the release of property and interests in property blocked pursuant to this section, including funds blocked due to mistaken identity or typographical or similar errors, and for administrative reconsideration of one's status as a person whose property and interests in property are blocked pursuant to paragraph (a) of this section.

* * * * *

PART 562—IRANIAN SECTOR AND HUMAN RIGHTS ABUSES SANCTIONS REGULATIONS

36. The authority citation for part 562 continues to read as follows:

Authority: 3 U.S.C. 301; 18 U.S.C. 2332d; 22 U.S.C. 8501-8551; 31 U.S.C. 321(b); 50 U.S.C. 1601-1651, 1701-1706; Pub. L. 101-410, 104 Stat. 890, as amended (28 U.S.C. 2461 note); E.O. 12957, 60 FR 14615, 3 CFR, 1995 Comp., p. 332; E.O. 13553, 75 FR 60567, 3 CFR, 2010 Comp., p. 253; E.O. 13871, 84 FR 20761, 3 CFR, 2019 Comp., p. 308.

Subpart B—Prohibitions

37. Amend § 562.201 as follows:

a. In note 2 to § 562.201, in the second and third sentences:

i. Remove “The names” and add in its place “Except as described in note 3 to this section, the names”; and

ii. Remove “also”.

b. Redesignate note 3 to § 562.201 as note 4 to § 562.201.

c. Add new note 3 to § 562.201.

d. Revise newly redesignated note 4 to § 562.201.

The addition and revision read as follows:

§ 562.201 Prohibited transactions.

* * * * *

Note 3 to § 562.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 562.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 569—SYRIA-RELATED SANCTIONS REGULATIONS

38. The authority citation for part 569 continues to read as follows:

Authority: 3 U.S.C. 301; 31 U.S.C. 321(b); 50 U.S.C. 1601-1651, 1701-1706; Pub. L. 101-410, 104 Stat. 890, as amended (28 U.S.C. 2461 note); E.O. 13894, 84 FR 55851, 3 CFR, 2019 Comp., p. 382.

Subpart B—Prohibitions

39. Amend § 569.201 as follows:

a. In note 2 to § 569.201, in the second sentence:

i. Remove “The names” and add in its place “Except as described in note 3 to this section, the names”; and

ii. Remove the word “also”.

b. Redesignate note 3 to § 569.201 as note 6 to § 569.201.

c. Add new note 3 to § 569.201.

d. Revise newly redesignated note 6 to § 569.201.

The addition and revision read as follows:

§ 569.201 Prohibited transactions.

* * * * *

Note 3 to § 569.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

* * * * *

Note 6 to § 569.201. Subpart E of part 501 of this chapter describes the procedures to be followed for the release of property and interests in property blocked pursuant to this section, including funds blocked due to mistaken identity or typographical or similar errors, and for administrative reconsideration of one's status as a person whose property and interests in property are blocked pursuant to this section.

PART 570—LIBYAN SANCTIONS REGULATIONS

40. The authority citation for part 570 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13566, 76 FR 11315, 3 CFR, 2011 Comp., p. 222; E.O. 13726, 81 FR 23559, 3 CFR, 2016 Comp., p. 454.

41. Amend § 570.201 as follows:

a. In note 2 to § 570.201, in the second sentence:

i. Remove “The names” and add in its place “Except as described in note 3 to this section, the names”; and

ii. Remove the word “also.”

b. Redesignate note 3 to § 570.201 as note 4 to § 570.201.

c. Add new note 3 to § 570.201.

d. Revise newly designated note 4 to § 570.201.

The addition and revision read as follows:

§ 570.201 Prohibited transactions.

* * * * *

Note 3 to § 570.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 570.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 576—IRAQ STABILIZATION AND INSURGENCY SANCTIONS REGULATIONS

42. The authority citation for part 576 continues to read as follows:

Authority: 3 U.S.C. 301; 22 U.S.C. 287c; 31 U.S.C. 321(b); 50 U.S.C. 1601-1651, 1701-1706; Pub. L. 101-410, 104 Stat. 890, as amended (28 U.S.C. 2461 note); E.O. 13303, 68 FR 31931, 3 CFR, 2003 Comp., p. 227; E.O. 13315, 68 FR 52315, 3 CFR, 2003 Comp., p. 252; E.O. 13350, 69 FR 46055, 3 CFR, 2004 Comp., p. 196; E.O. 13364, 69 FR 70177, 3 CFR, 2004 Comp., p. 236; E.O. 13438, 72 FR 39719, 3 CFR, 2007 Comp., p. 224; E.O. 13668, 79 FR 31019, 3 CFR, 2014 Comp., p. 248.

Subpart B—Prohibitions

43. Amend § 576.201 as follows:

a. In note 2 to paragraph (a) of § 570.201, in the second sentence:

i. Remove “The names” and add in its place “Except as described in note 3 to this paragraph (a), the names”; and

ii. Remove the word “also”.

b. Redesignate note 3 to paragraph (a) of § 570.201 as note 4 to paragraph (a).

c. Add new note 3 to paragraph (a).

d. Revise newly designated note 4 to paragraph (a).

The addition and revision read as follows:

§ 576.201 Prohibited transactions involving blocked property.

(a) * * *

Note 3 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 578—CYBER-RELATED SANCTIONS REGULATIONS

44. The authority citation for part 578 continues to read as follows:

Authority: 3 U.S.C. 301; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13694, 80 FR 18077, 3 CFR 2015 Comp., p. 297; E.O. 13757, 82 FR 1, 3 CFR 2016 Comp., p. 659.

Subpart B—Prohibitions

45. Amend § 578.201 as follows:

a. In note 2 to § 578.201, in the second sentence:

i. Remove “The names” and add in its place “Except as described in note 3 to this section, the names”; and

ii. Remove the word “also.”

b. Redesignate notes 3 and 4 to § 570.201 as notes 4 and 5 to § 578.201, respectively.

c. Add new note 3 to § 578.201.

d. Revise newly designated note 4 to § 570.201.

The addition and revision read as follows:

§ 578.201 Prohibited transactions.

* * * * *

Note 3 to § 578.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 578.201. Subpart E of part 501 of this chapter describes the procedures to be followed for the release of property and interests in property blocked pursuant to this section, including funds blocked due to mistaken identity or typographical or similar errors, and for administrative reconsideration of one's status as a person whose property and interests in property are blocked pursuant to paragraph (a) of this section.

* * * * *

PART 579—FOREIGN INTERFERENCE IN U.S. ELECTIONS SANCTIONS REGULATIONS

46. The authority citation for part 579 continues to read as follows:

Authority: 3 U.S.C. 301; 31 U.S.C. 321(b); 50 U.S.C. 1601-1651, 1701-1706; Pub. L. 101-410, 104 Stat. 890, as amended (28 U.S.C. 2461 note); E.O. 13848, 83 FR 46843, 3 CFR, 2018 Comp., p. 869.

Subpart B—Prohibitions

47. Amend § 579.201 as follows:

a. In note 2 to § 579.201, in the second sentence:

i. Remove “The names” and add in its place “Except as described in note 3 to this section, the names”; and

ii. Remove the word “also.”

b. Redesignate note 3 to § 579.201 as note 4 to § 579.201.

c. Add new note 3 to § 579.201.

d. Revise newly designated note 4 to § 579.201.

The addition and revision read as follows:

§ 579.201 Prohibited transactions.

* * * * *

Note 3 to § 579.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 579.201. Subpart E of part 501 of this chapter describes the procedures to be followed for the release of property and interests in property blocked pursuant to this section, including funds blocked due to mistaken identity or typographical or similar errors, and for administrative reconsideration of one's status as a person whose property and interests in property are blocked pursuant to this section.

PART 582—NICARAGUA SANCTIONS REGULATIONS

48. The authority citation for part 582 continues to read as follows:

Authority: 3 U.S.C. 301; 31 U.S.C. 321(b); 50 U.S.C. 1601-1651, 1701-1706; Pub L. 101-410, 104 Stat. 890, as amended (28 U.S.C. 2461 note); Pub L. 115-335, 132 Stat. 5019 (50 U.S.C. 1701 note); E.O. 13851, 83 FR 61505, 3 CFR, 2018 Comp., p. 884.

Subpart B—Prohibitions

49. Amend § 582.201 as follows:

a. In note 2 to § 582.201, in the second sentence:

i. Remove “The names” and add in its place “Except as described in note 3 to this section, the names”; and

ii. Remove the word “also.”

b. Redesignate note 3 to § 582.201 as note 4 to § 582.201.

c. Add new note 3 to § 582.201.

Revise newly designated note 4 to § 582.201.

The addition and revision read as follows:

§ 582.201 Prohibited transactions.

* * * * *

Note 3 to § 582.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 582.201. Subpart E of part 501 of this chapter describes the procedures to be followed for the release of property and interests in property blocked pursuant to this section, including funds blocked due to mistaken identity or typographical or similar errors, and for administrative reconsideration of one's status as a person whose property and interests in property are blocked pursuant to this section.

PART 583—GLOBAL MAGNITSKY SANCTIONS REGULATIONS

50. The authority citation for part 583 continues to read as follows:

Authority: 3 U.S.C. 301; 22 U.S.C. 10101-10103; 31 U.S.C. 321(b); 50 U.S.C. 1601-1651, 1701-1706; Pub. L. 101-410, 104 Stat. 890, as amended (28 U.S.C. 2461 note); Pub. L. 116-145, 134 Stat. 651, as amended (22 U.S.C. 6901 note); Pub. L. 117-78, 135 Stat. 1531 (22 U.S.C. 6901 note); E.O. 13818, 82 FR 60839, 3 CFR, 2017 Comp. p. 399.

Subpart B—Prohibitions

51. Amend § 583.201 as follows:

a. In note 2 to § 583.201, in the second sentence:

i. Remove “The names” and add in its place “Except as described in note 3 to this section, the names”; and

ii. Remove the word “also.”

b. Redesignate note 3 to § 583.201 as note 4 to § 583.201.

c. Add new note 3 to § 583.201.

d. Revise newly designated note 4 to § 583.201.

The addition and revisions read as follows:

§ 583.201 Prohibited transactions.

* * * * *

Note 3 to § 583.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 583.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 584—MAGNITSKY ACT SANCTIONS REGULATIONS

52. The authority citation for part 584 continues to read as follows:

Authority: 3 U.S.C. 301; 31 U.S.C. 321(b); 50 U.S.C. 1601-1651, 1701-1706; Pub L. 101-410, 104 Stat. 890, as amended (28 U.S.C. 2461 note); Pub L. 112-208, Title IV, 126 Stat. 1502 (22 U.S.C. 5811 note).

Subpart B—Prohibitions

53. Amend § 584.201 as follows:

a. In note 2 to paragraph (a), in the second sentence:

i. Remove “The names” and add in its place “Except as described in note 3 to this paragraph (a), the names”; and

ii. Remove the word “also.”

b. Redesignate notes 3 and 4 to paragraph (a) as notes 4 and 5 to paragraph (a), respectively.

c. Add new note 3 to paragraph (a).

d. Revise newly designated note 4 to paragraph (a).

The additions and revision read as follows:

§ 584.201 Prohibited transactions involving blocked property.

(a) * * *

Note 3 to paragraph (a). In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

PART 585—HONG KONG-RELATED SANCTIONS REGULATIONS

54. The authority citation for part 585 is revised to read as follows:

Authority: 3 U.S.C. 301; 31 U.S.C. 321(b); 50 U.S.C. 1601-1651, 1701-1706; Pub. L. 101-410, 104 Stat. 890 (28 U.S.C. 2461 note); E.O. 13936, 85 FR 43413, 3 CFR, 2020 Comp., p. 399.

Subpart B—Prohibitions

55. Amend § 585.201 as follows:

a. In note 2 to § 585.201, in the second sentence:

i. Remove “The names” and add in its place “Except as described in note 3 to this section, the names”; and

ii. Remove the word “also.”

b. Redesignate note 3 to § 585.201 as note 4 to § 585.201.

c. Add new note 3 to § 585.201.

d. Revise newly designated note 4 to § 585.201.

The addition and revision read as follows:

§ 585.201 Prohibited transactions.

* * * * *

Note 3 to § 585.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 585.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 587—RUSSIAN HARMFUL FOREIGN ACTIVITIES SANCTIONS REGULATIONS

56. The authority citation for part 587 is revised to read as follows:

Authority: 3 U.S.C. 301; 31 U.S.C. 321(b); 50 U.S.C. 1601-1651, 1701-1706; Pub. L. 101-410, 104 Stat. 890, as amended (28 U.S.C. 2461 note); E.O. 14024, 86 FR 20249, 3 CFR, 2021 Comp., p. 542.

57. Amend § 587.201 as follows:

a. In note 2 to § 587.201, in the second sentence:

i. Remove “The names” and add in its place “Except as described in note 3 to this section, the names”; and

ii. Remove the word “also.”

b. Redesignate note 3 to § 587.201 as note 4 to § 587.201.

c. Add new note 3 to § 587.201.

d. Revise newly designated note 4 to § 587.201.

The addition and revision read as follows:

§ 587.201 Prohibited transactions.

* * * * *

Note 3 to § 587.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 587.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 588—WESTERN BALKANS STABILIZATION REGULATIONS

58. The authority citation for part 588 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13219, 66 FR 34777, 3 CFR, 2001 Comp., p. 778; E.O. 13304, 68 FR 32315, 3 CFR, 2004 Comp., p. 229; E.O. 14033, 86 FR 43905, 3 CFR, 2022 Comp., p. 591.

Subpart B—Prohibitions

59. Amend § 588.201 as follows:

a. In note 2 to § 588.201, in the second sentence:

i. Remove “The names” and add in its place “Except as described in note 3 to this section, the names”; and

ii. Remove the word “also.”

b. Redesignate note 3 to § 588.201 as note 4 to § 588.201.

c. Add new note 3 to § 588.201.

d. Revise newly designated note 4 to § 588.201.

The addition and revision read as follows:

§ 588.201 Prohibited transactions.

* * * * *

Note 3 to § 588.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 588.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 589—UKRAINE-/RUSSIA-RELATED SANCTIONS REGULATIONS

60. The authority citation for part 589 continues to read as follows:

Authority: 3 U.S.C. 301; 22 U.S.C. 8901-8910, 8921-8930; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13660, 79 FR 13493, 3 CFR, 2014 Comp., p. 226; E.O. 13661, 79 FR 15535, 3 CFR, 2014 Comp., p. 229; E.O. 13662, 79 FR 16169, 3 CFR, 2014 Comp., p. 233; E.O. 13685, 79 FR 77357, 3 CFR, 2014 Comp., p. 313., E.O. 13849, 3 CFR, 2018 Comp., p. 875, E.O. 14065, 87 FR 10293, 3 CFR, 2022 Comp., p. 340.

Subpart B—Prohibitions

61. Amend § 589.201 as follows:

a. In note 2 to § 589.201, in the second and third sentences:

i. Remove “The names” and add in its place “Except as described in note 4 to this section, the names”; and

ii. Remove the word “also.”

b. Redesignate notes 4 and 5 to § 589.201 as notes 5 and 6 to § 589.201, respectively.

c. Add new note 4 to § 589.201.

d. Revise newly designated note 5 to § 570.201.

The additions and revision read as follows:

§ 589.201 Prohibited transactions.

* * * * *

Note 4 to § 589.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 5 to § 589.201. Subpart E of part 501 of this chapter describes the procedures to be followed for the release of property and interests in property blocked pursuant to this section, including funds blocked due to mistaken identity or typographical or similar errors, and for administrative reconsideration of one's status as a person whose property and interests in property are blocked pursuant to paragraph (a) of this section.

* * * * *

PART 590—TRANSNATIONAL CRIMINAL ORGANIZATIONS SANCTIONS REGULATIONS

62. The authority citation for part 590 continues to read as follows:

Authority: 3 U.S.C. 301; 31 U.S.C. 321(b); 50 U.S.C. 1601-1651, 1701-1706; Pub. L. 101-410, 104 Stat. 890, as amended (28 U.S.C. 2461 note); E.O. 13581, 76 FR 44757, 3 CFR, 2011 Comp., p. 260; E.O. 13863, 84 FR 10255, 3 CFR, 2019 Comp., p. 267.

Subpart B—Prohibitions

63. Amend § 590.201 as follows:

a. In note 2 to § 590.201, in the second sentence:

i. Remove “The names” and add in its place “Except as described in note 3 to this section, the names”; and

ii. Remove the word “also.”

b. Redesignate note 3 to § 590.201 as note 4 to § 590.201.

c. Add new note 3 to § 590.201.

d. Revise newly designated note 4 to § 590.201.

The addition and revision read as follows:

§ 590.201 Prohibited transactions.

* * * * *

Note 3 to § 590.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 590.201. Subpart E of part 501 of this chapter describes the procedures to be followed for the release of property and interests in property blocked pursuant to this section, including funds blocked due to mistaken identity or typographical or similar errors, and for administrative reconsideration of one's status as a person whose property and interests in property are blocked pursuant to paragraph (a) of this section.

PART 591—VENEZUELA SANCTIONS REGULATIONS

64. The authority citation for part 591 continues to read as follows:

Authority: 3 U.S.C. 301; 31 U.S.C. 321(b); 50 U.S.C. 1601-1651, 1701-1706; Pub. L. 101-410, 104 Stat. 890, as amended (28 U.S.C. 2461 note); Pub. L. 113-278, 128 Stat. 3011 (50 U.S.C. 1701 note); E.O. 13692, 80 FR 12747, 3 CFR, 2015 Comp., p. 276; E.O. 13808, 82 FR 41155, 3 CFR, 2017 Comp., p. 377; E.O. 13827, 83 FR 12469, 3 CFR, 2018 Comp., p. 794; E.O. 13835, 83 FR 24001, 3 CFR, 2018 Comp., p. 817; E.O. 13850, 83 FR 55243, 3 CFR, 2018 Comp., p. 881; E.O. 13857, 84 FR 509, 3 CFR, 2019 Comp., p 251; E.O. 13884, 84 FR 38843, 3 CFR, 2019 Comp., p. 351.

Subpart B—Prohibitions

65. Amend § 591.201 as follows:

a. In note 2 to § 591.201, in the second sentence:

i. Remove “The names” and add in its place “Except as described in note 3 to this section, the names”; and

ii. Remove “also”.

b. Redesignate note 3 to § 591.201 as note 4 to § 591.201.

c. Add new note 3 to § 591.201.

d. Revise newly designated note 4 to § 591.201.

The addition and revision read as follows:

§ 591.201 Prohibited transactions.

* * * * *

Note 3 to § 591.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 591.201. Subpart E of part 501 of this chapter describes the procedures to be followed for the release of property and interests in property blocked pursuant to this section, including funds blocked due to mistaken identity or typographical or similar errors, and for administrative reconsideration of one's status as a person whose property and interests in property are blocked pursuant to this section.

PART 594—GLOBAL TERRORISM SANCTIONS REGULATIONS

66. The authority citation for part 594 is revised to read as follows:

Authority: 3 U.S.C. 301; 22 U.S.C. 287c; 31 U.S.C. 321(b); 50 U.S.C. 1601-1651, 1701-1706; Pub. L. 101-410, 104 Stat. 890, as amended (28 U.S.C. 2461 note); Pub L. 114-102, 129 Stat. 2205, as amended (50 U.S.C. 1701 note); Pub. L. 115-44, 131 Stat 886 (codified in scattered sections of 22 U.S.C.); Pub. L. 115-348, 132 Stat. 5055 (50 U.S.C. 1701 note); E.O. 13224, 66 FR 49079, 3 CFR, 2001 Comp., p. 786; E.O. 13268, 67 FR 44751, 3 CFR 2002 Comp., p. 240; E.O. 13284, 68 FR 4075, 3 CFR, 2003 Comp., p. 161; E.O. 13372, 70 FR 8499, 3 CFR, 2006 Comp., p. 159; E.O. 13886, 84 FR 48041, 3 CFR, 2019 Comp., p. 356.

Subpart B—Prohibitions

67. Amend § 594.201 as follows:

a. Remove notes 2 and 3 to paragraph (a).

b. Redesignate notes 1 and 2 to § 594.201 as notes 3 and 6 to § 594.201, respectively.

c. Add new note 2 to § 594.201.

d. Revise newly redesignated note 3 to § 594.201.

e. Add notes 4 and 5 to § 594.201.

The addition and revision read as follows:

§ 594.201 Prohibited transactions involving blocked property.

* * * * *

Note 2 to § 594.201: The names of persons whose property and interests in property are blocked pursuant to paragraph (a) of this section are published in the Federal Register and incorporated into the Office of Foreign Assets Control's SDN List with the identifier “[SDGT].” Persons who have been identified by the Office of Foreign Assets Control as officials, agents, or affiliates of the IRGC are identified by a special reference to the “IRGC” at the end of their entries on the SDN List, in addition to the reference to this part. For example, an affiliate of the IRGC whose property and interests in property are blocked pursuant to this part will have the program tags “[SDGT] [IRGC]” at the end of its entry on the SDN List. The SDN List is accessible through the following page on the Office of Foreign Assets Control's website: https://www.treasury.gov/sdn. Additional information pertaining to the SDN List can be found in appendix A to this chapter. See § 594.412 concerning entities that may not be listed on the SDN List but whose property and interests in property are nevertheless blocked pursuant to paragraph (a) of this section.

Note 3 to § 594.201. The International Emergency Economic Powers Act (50 U.S.C. 1701-1706), in Section 203 (50 U.S.C. 1702), authorizes the blocking of property and interests in property of a person during the pendency of an investigation. Except as described in note 4 to this section, the names of persons whose property and interests in property are blocked pending investigation pursuant to paragraph (a) of this section are published in the Federal Register and incorporated into the SDN List with the identifier “[BPI-PA]” or “[BPI-SDGT].”

Note 4 to § 594.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 5 to § 594.201. Subpart E of part 501 of this chapter describes the procedures to be followed for the release of property and interests in property blocked pursuant to this section, including funds blocked due to mistaken identity or typographical or similar errors, and for administrative reconsideration of one's status as a person whose property and interests in property are blocked pursuant to paragraph (a) of this section.

* * * * *

PART 598—FOREIGN NARCOTICS KINGPIN SANCTIONS REGULATIONS

68. The authority citation for part 598 continues to read as follows:

Authority: 3 U.S.C. 301; 21 U.S.C. 1901-1908; 31 U.S.C. 321(b); Pub. L. 101-410, 104 Stat. 890, as amended (28 U.S.C. 2461 note).

Subpart B—Prohibitions

69. Amend § 598.202 by revising and republishing note 2 to paragraph (a) to read as follows:

§ 598.202 Prohibited transactions.

(a) * * *

Note 2 to paragraph (a). Subpart E of part 501 of this chapter describes the procedures to be followed for the release of property and interests in property blocked pursuant to this section, including funds blocked due to mistaken identity or typographical or similar errors, and for administrative reconsideration of one's status as a person whose property and interests in property are blocked pursuant to this paragraph (a).

* * * * *

70. Amend § 598.314 as follows:

a. In note 2 to § 598.314, in the second sentence:

i. Remove “The names” and add in its place “Except as described in note 3 to this section, the names”; and

ii. Remove “also”.

b. Redesignate note 3 to § 598.314 as note 4 to § 598.314.

c. Add new note 3 to § 598.314.

d. Revise newly designated note 4 to § 598.314.

The addition and revision read as follows:

§ 598.314 Specially designated narcotics trafficker.

* * * * *

Note 3 to § 598.201. In certain cases, OFAC may issue an order to: identify as blocked specific property or interests in property of a specially designated narcotics trafficker; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

Note 4 to § 598.314. Subpart E of part 501 of this chapter describes the procedures to be followed for the unblocking of property and interests in property blocked pursuant to this section, including funds blocked due to mistaken identity or typographical or similar errors, and for administrative reconsideration of one's status as a person whose property and interests in property are blocked pursuant to this part.

PART 599—ILLICIT DRUG TRADE SANCTIONS REGULATIONS

71. The authority citation for part 599 is revised to read as follows:

Authority: 3 U.S.C. 301; 21 U.S.C. 2301 et seq.; 31 U.S.C. 321(b); 50 U.S.C. 1601-1651, 1701-1706; Pub. L. 101-410, 104 Stat. 890, as amended (28 U.S.C. 2461 note); E.O. 14059, 86 FR 71549, 3 CFR, 2021 Comp., p. 715.

Subpart B—Prohibitions

72. Amend § 599.201 as follows:

a. In note 2 to § 599.201, in the second sentence:

i. Remove “The names” and add in its place “Except as described in note 3 to this section, the names”; and

ii. Remove “also”.

b. Redesignate notes 3 and 4 to § 599.201 as notes 4 and 5 to § 599.201, respectively.

c. Add new note 3 to § 599.201.

d. Revise newly designated note 5 to § 599.201.

The addition and revision read as follows:

§ 599.201 Prohibited transactions.

* * * * *

Note 3 to § 599.201. In certain cases, OFAC may issue an order to: identify as blocked specific property or interests in property of a person designated or otherwise blocked pursuant to this section; block specific property or interests in property of a person pending investigation; or block or impose other prohibitions with respect to specific property or interests in property less than full blocking sanctions. Notice of such orders will be provided: by publication in the Federal Register; in writing to persons OFAC may assess to have an interest in the property; or by issuing an order or directive in writing to financial institutions or other transaction intermediaries, and requiring the recipient of the order or directive to promptly disclose it to affected persons with whom the recipient maintains direct commercial relationships. Inquiries regarding any such order should be directed to OFAC's Compliance Division at 202-622-2490 or https://ofac.treasury.gov/contact-ofac.

* * * * *

Note 5 to § 599.201. Subpart E of part 501 of this chapter describes the procedures to be followed for the release of property and interests in property blocked pursuant to this section, including funds blocked due to mistaken identity or typographical or similar errors, and for administrative reconsideration of one's status as a person whose property and interests in property are blocked pursuant to this section.

Lisa M. Palluconi,
Acting Director, Office of Foreign Assets Control.

[FR Doc. 2024-20857 Filed 9-13-24; 8:45 am]

BILLING CODE 4810-AL-P